DEPARTMENT OF COMMERCE

Foreign-Trade Zones Board

[A(32c)-07-2009]

Foreign-Trade Zone 20—Suffolk, VA; Scope Clarification Request—Foreign-Trade Subzone 20D, Canon Virginia, Inc.—Newport News, VA (Computer Printers and Related Products)

A request for clarification of scope has been submitted to the Foreign-Trade Zones Board (the Board) by Canon Virginia, Inc. (Canon), operator of Foreign-Trade Subzone 20D at Canon's computer printer and related products manufacturing facilities in Newport News, Virginia.

A grant of authority for Canon's subzone was issued on November 21, 2002, with manufacturing authority for computer printers, printer cartridges and drums, toner and toner bottles, and refurbished copiers (Board Order 1262, 67 FR 71934, 12/03/2002). Canon listed in the original application specific components which would be used in manufacturing and also listed categories of components which might be sourced from abroad in the future. The current request involves Canon's toner cartridge and subassembly and toner bottle production (HTSUS 8443.99—duty free). Canon has informed the Board that this production will involve the use of imported materials that were not specifically listed as foreign-sourced components in the original subzone request. The company now plans to use foreign-sourced Teflon solution (HTSUS 3403.19.5000—5.8%), strontium ferrite compound (HTSUS 2841.90.5000—3.7%) and barium sulfate mixture (HTSUS 3824.90.9290—5%) in its toner cartridge and subassembly production and strontium ferrite compound in its toner bottle production.

The FTZ staff invites the comments of interested parties for consideration in its review. Submissions shall be addressed to the Board's Executive Secretary at the address listed below. The closing period for their receipt is July 24, 2009.

A copy of the request will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Diane Finver at Diane_Finver@ita.doc.gov, or (202) 482-1367.

Dated: June 18, 2009.
Andrew McGilvray,
Executive Secretary.

[FR Doc. E9-14887 Filed 6-23-09; 8:45 am]

BILLING CODE P